FEDERAL COMMUNICATIONS COMMISSION

47 CFR Part 73

[DA 01-1741; MM Docket No. 98-9, RM-9216 and MM Docket No. 98-13, RM-9212]

FM Broadcasting Services; Pleasanton, KS and Topeka, Iola, and Emporia, KS

AGENCY: Federal Communications Commission

ACTION: Final rule

SUMMARY: The Commission, in response to the rulemaking petition of Shawnee Broadcasting Corporation (RM-9216), upgrades Station KWIC(FM) by substituting Channel 257C3 (99.3 MHz) for Channel 257A at Topeka, Kansas; substituting Channel 268A (101.5 MHz) for Channel 257A at Station KIKS(FM), Iola, Kansas; substituting Channel 241A (96.1 MHz) for Channel 258A (99.5 MHz) at Station WRVW(FM), Emporia, Kansas; and modifying the licenses of the respective stations, accordingly. See Notice of Proposed Rulemaking, 63 FR 7361, published February 13, 1998. In response to the rulemaking petition of the City of Pleasanton, Kansas (RM-9212), the Commission also allotted Channel 229C3 (93.7 MHz) to Pleasanton to provide its first local broadcast radio service. See Notice of Proposed Rulemaking, 63 FR 6699, published February 10, 1998. See Supplemental Information infra.

DATES: Effective September 4, 2001.

FOR FURTHER INFORMATION CONTACT: J. Bertron Withers, Jr., Mass Media Bureau, (202) 418-2180.

SUPPLEMENTARY INFORMATION: This is a synopsis of the Commission's consolidated Report and Order, MM Docket Nos. 98-9 and 98-13, adopted July 11, 2001, and released July 20, 2001. The full text of this Commission decision is available for inspection and copying during normal business hours in the Commission's Reference Center (Room CY-A257), 445 12th Street, SW., Washington, DC 20554. The complete text of this decision also may be purchased from the Commission's copy contractor, International Transcription Service, (202) 857-3800, 1231 20th Street, NW., Washington, DC 20036.

Channel 229C3 can be allotted to Topeka in compliance with the Commission's minimum distance separation requirements at the Shawnee Broadcasting's requested site, located at North Latitude 30°01′12″ and West Longitude 95°41′25″, 3.5 kilometers from Station KWIC(FM)'s current transmitter site. Channel 268A can be allotted to Iola as a substitute for Channel 257A in compliance with the Commission's minimum distance separation requirements at the current transmitter site for Station KIKS(FM) located at North Latitude 37°54′04″ and West Longitude 95°24′04″. Channel 241A can be allotted to Emporia as a substitute for Channel 258A at Station KRWV(FM) in compliance with the Commission's minimum distance separation requirements at the current transmitter site for Station KWRV(FM) located at North Latitude 38°24′21″ and West Longitude 96°14′13″. Channel 229C3 can be allotted to Pleasanton at a site restricted to 22.1 kilometers (13.7 miles) west of Pleasanton at at North Latitude 38°14′39″ and West Longitude 94°57′14″.

List of Subjects in 47 CFR Part 73

Radio broadcasting.

PART 73—RADIO BROADCAST SERVICES

1. The authority citation for Part 73 reads continues to read as follows:

Authority: Sections 47 U.S.C. 154, 303, 334, and 336.

§ 73.202 [Amended]

2. Section 73.202(b), the Table of FM Allotments, under Kansas, is amended by adding Channel 257C3 at Topeka; adding Channel 268A at Iola; adding Channel 241A at Emporia; and adding Pleasanton, Channel 229C3.

3. Section 73.202(b), the Table of FM Allotments, under Kansas, is amended by removing Channel 257A at Topeka; removing 257A at Iola; and removing Channel 258A at Emporia.

Federal Communications Commission.
John A. Karousos,
Chief, Allocations Branch, Policy and Rules Division, Mass Media Bureau.

[FR Doc. 01-18957 Filed 7-30-01; 8:45 am]

BILLING CODE 6712-01-U